SMALL BUSINESS ADMINSTRATION

Senior Executive Service: Performance Review Board Members

AGENCY: Small Business Administration.

ACTION: Notice of members for the FY 04 Performance Review Board.

SUMMARY: Section 4314(c)(4) of Title 5, U.S.C.; requires each agency to publish notification of the appointment of individuals who may serve as members of that Agency's Performance Review Board (PRB). The following individuals have been designated to serve on the FY 04 Performance Review Board for the U.S. Small Business Administration:

1. Lewis D. Andrews, Jr., Associate Deputy Administrator for Management and Administration;

2. Anthony Bedell, Associate Administrator for Congressional and Legislative Affairs;

3. Delorice Ford, Assistant Administrator for the Office of Hearings and Appeals;

4. Janet Tasker, Associate Administrator for the Office of Lender Oversight;

5. Jose Sifontes, Office of the District Director—New York District Office;

6. Jerry E. Williams, Deputy Chief Information Officer; and,

7. Herbert Mitchell, Associate Administrator for the Office of Disaster Assistance.

Dated: January 14, 2005.
Hector V. Barreto,
Administrator.

[FR Doc. 05-1188 Filed 1-21-05; 8:45 am]

BILLING CODE 8025-01-P